DEPARTMENT OF COMMERCE

International Trade Administration

[A-570-504]

Petroleum Wax Candles from the People's Republic of China: Extension of Time Limit for Preliminary Results of the Antidumping Duty Administrative Review

AGENCY: Import Administration, International Trade Administration, Department of Commerce.

SUMMARY: The Department of Commerce (“the Department”) is extending the time limit for the preliminary results of the review of petroleum wax candles (“candles”) from the People's Republic of China (“PRC”). This review covers the period August 1, 2004, through July 31, 2005.

EFFECTIVE DATE: March 30, 2006.

FOR FURTHER INFORMATION CONTACT: Cindy Lai Robinson, AD/CVD Operations, Office 9, Import Administration, International Trade Administration, U.S. Department of Commerce, 14th Street and Constitution Avenue, NW., Washington, DC 20230; telephone: (202) 482-3797.

SUPPLEMENTARY INFORMATION:

Statutory Time Limits

Section 751(a)(3)(A) of the Tariff Act of 1930, as amended (“the Act”), requires the Department to make a preliminary determination within 245 days after the last day of the anniversary month of an order for which a review is requested and a final determination within 120 days after the date on which the preliminary determination is published. However, if it is not practicable to complete the review within these time periods, section 751(a)(3)(A) of the Act allows the Department to extend the time limit for the preliminary determination to a maximum of 365 days after the last day of the anniversary month.

Background

On September 28, 2005, the Department published a notice of initiation of a review of candles from the PRC covering the period August 1, 2004, through July 31, 2005. See Initiation of Antidumping and Countervailing Duty Administrative Reviews and Requests for Revocation in Part, 70 FR 56631 (September 28, 2005).

Extension of Time Limit of Preliminary Results

The Department determines that this review is extraordinarily complicated and that completion of the preliminary results of this review within the 245-day period is not practicable. Specifically, the Department requires additional time to examine whether the respondent, Qingdao Youngson Industrial Co., Ltd. (“Youngson”), is affiliated with other PRC producers and to conduct verification of Youngson's questionnaire responses.

Therefore, in accordance with section 751(a)(3)(A) of the Act, the Department is extending the time limit for the completion of the preliminary results of the review by 45 days to June 17, 2006. However, June 17, 2006, falls on Saturday, and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the preliminary results is June 19, 2006. The final results continue to be due 120 days after the publication of the preliminary results.

We are issuing and publishing this notice in accordance with sections 751(a)(2) and 777(i)(1) of the Act.

Dated: March 23, 2006.
Stephen J. Claeys,
Deputy Assistant Secretary for Import Administration.

[FR Doc. E6-4658 Filed 3-29-03; 8:45 am]

BILLING CODE 3510-DS-S